DEPARTMENT OF EDUCATION

Rehabilitation Services Administration

AGENCY: Department of Education.

ACTION: Notice of Final Competitive Preference for Fiscal Year 2001 for the Rehabilitation Long-Term Training and Rehabilitation Continuing Education Programs.

SUMMARY: The Assistant Secretary for the Office of Special Education and Rehabilitative Services announces the additions of competitive preference points to the competitions for the Rehabilitation Long-Term Training and Rehabilitation Continuing Education programs for fiscal year 2001. This notice contains describes the additional competitive preference points.

EFFECTIVE DATE: This priority is effective on October 2, 2000.

FOR FURTHER INFORMATION CONTACT: Mary C. Lynch, U.S. Department of Education, 400 Maryland Avenue, SW, room 3322, Switzer Building, Washington, DC 20202-2649. Telephone: (202) 205-8291.

If you use a telecommunications device for the deaf (TDD) you may call the Federal Information Relay Service (FIRS) at 1-800-877-8399. Internet: Mary_Lynch@ed.gov. Individuals with disabilities may obtain this document in an alternative format (e.g., Braille, large print, audiotape, or computer diskette) on request to the contact person listed in the preceding paragraph.

SUPPLEMENTARY INFORMATION: This notice announces final competitive preference points under the Rehabilitation Long-Term Training and Rehabilitation Continuing Education programs. These programs are authorized under section 302 of the Rehabilitation Act of 1973, as amended.

On June 30, 2000 the Assistant Secretary published a notice of proposed competitive preference points for these programs in the Federal Register (65 FR 40615-40616).

Note: This notice of final competitive preference points does not solicit applications. A notice inviting applications under this competition is published in a separate notice in this issue of the Federal Register.

Analysis of Comments and Changes

In response to the Assistant Secretary's invitation in the notice of proposed competitive preference points, five parties submitted comments. An analysis of the comments and of the changes in the proposed competitive preference points follows. Technical and other minor changes—and suggested changes the Assistant Secretary is not legally authorized to make under the applicable statutory authority—are not addressed.

Comment: Two commenters supported the proposed competitive preference points.

Discussion: None.

Change: None.

Comment: One commenter expressed a concern that the proposed competitive preference points duplicate existing peer review criteria.

Discussion: While the existing peer review criteria do overlap with the proposed competitive preference points, the selection criteria relating to outreach to employees with disabilities is included as a part of a much broader criterion that includes outreach to all underrepresented populations and general issues related to quality of project personnel. For this reason, under the current system, the impact of hiring people with disabilities on peer reviewer scores is negligible.

Change: None.

Comment: One commenter expressed concern about an increased burden on the part of an applicant to document past and current practices, including counting currently employed persons with disabilities as well as numbers of employees with disabilities employed in the past.

Discussion: The Assistant Secretary does not believe this constitutes an unreasonable burden, especially as such information is often reported by applicants in response to current selection criteria.

Change: None.

Comment: One commenter reported that the majority of long term training grants are directly related to student stipend support, with little support for recruitment, hiring and retention of staff. Therefore it places an additional burden on the applicant organization to hire people with disabilities with non-project funding.

Discussion: The Assistant Secretary believes that hiring of people with disabilities is good practice regardless of the source of funds used for staff.

Change: None.

Comment: One commenter challenged the need for the proposed competitive preference points, suggesting that the Department of Education should first assess the current degree to which grantees are recruiting and hiring persons with disabilities, and the degree to which they are having difficulties in doing so. Decisions on competitive preference points could be made based upon the results of that assessment.

Discussion: The Assistant Secretary believes that the need is self-evident, and there is no need for an elaborate assessment to document this need.

Change: None.

Comment: One commenter expressed concerns about accountability—for example, a project may hire or have strategies to hire people with disabilities, but not fulfill those strategies once they secure the grant.

Discussion: The points are only partially distributed based upon a plan or strategy to provide outreach and hire people with disabilities, not necessarily the success of their efforts. It is important to note that past efforts will likely have substantial influence on the actual number of points, if any, an applicant receives.

Changes: None.

Comment: Two commenters expressed concern that there may be inequities in the way in which applicants define an “individual with a disability” resulting in unfair application of the competitive preference points.

Discussion: The following ADA definition of an “individual with disability”, will serve as the basis for purposes of competitive preference points:

(i) Has a physical or mental impairment which substantially limits one or more of such person's major life activities;

(ii) Has a record of such an impairment; or

(iii) Is regarded as having such an impairment.

Change: None.

Comment: Three commenters expressed concern about inequitable assignment of points—how the points will be applied—number of people with disability, full versus part time, on board versus proposed, position on the project, type of disability, etc? One of these commenters asked specifically about “bad timing” such as a case in which the organization has a good track record in hiring people with disabilities, but recently loses an employee with a disability. The commenter asks if this bad timing will result in a lower score.

Discussion: Peer reviewers will receive a thorough orientation as to the applicability of the points and how to assign them. As suggested in the notice of proposed competitive priority, it will focus primarily on past history of and strategies for hiring staff with disabilities, project staff and plans for outreach to hire additional staff.

Change: None.

Comment: Two commenters made note that it may be difficult to substantiate information on people with disabilities serving as project staff. For example, some people with disabilities prefer not to self disclose, and some university policies do not allow their departments to require an applicant/employee to report a disability.

Discussion: Based upon experience with current and former grantees, the Assistant Secretary believes that substantiation will be a minor issue.

Change: None.

Comment: Two commenters expressed concerns over how to apply the points when compounded by other factors such as the ethnic composition of staff and veteran/nonveteran status.

Discussion: The sole factor addressed in the competitive preference points concerns disability. Other factors may be addressed elsewhere in the other selection criteria pertaining to a particular competition.

Change: None.

Comment: One commenter suggested alternative strategies for accomplishing the goal of hiring more people with disabilities by OSERS-funded projects, including revising the current scoring system to include this dimension and having RSA staff work with existing programs where needed.

Discussion: The Assistant Secretary agrees that these may be effective strategies as supplements to the proposed competitive preference points, and may consider them independent of the competitive preference points.

Change: None.

Comment: One commenter noted that there was no documented consultation with professional organizations in the formulation of the proposed competitive preference points or in the formulation of this final notice.

Discussion: While no consultation is required in the formulation of such notices, the notice of proposed competitive preference points is an opportunity to obtain comments and input from professional organizations and others on these matters.

Change: None.

Competitive Preference: The Assistant Secretary will use the selection criteria in 34 CFR 385.31, 386.20 and 389.30 to evaluate applications under this program. The maximum score for all the criteria is 100 points; however, the Assistant Secretary will also use the following criterion so that up to an additional ten points may be earned by an applicant for a total possible score of 110 points.

Within the Rehabilitation Long-Term Training and Rehabilitation Continuing Education program, we will give the following competitive preference under 34 CFR 75.105(c)(2)(i) to applications that are otherwise eligible for funding under the competitions.

Up to ten (10) points based on the extent to which an application includes effective strategies for employing and advancing in employment qualified individuals with disabilities in projects awarded under the competition. In determining the effectiveness of those strategies, we will consider the applicant's prior success, as described in the application, in employing and advancing in employment qualified individuals with disabilities.

Electronic Access to This Document

You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the preceding sites. If you have questions about using the PDF, call the U.S. Government Printing Office (GPO), toll free, at 1-888-293-6498; or in the Washington, D.C. area at (202) 512-1530.

Note: The official version of this document is the document published in the Federal Register. Free Internet access to the official edition of the Federal Register and the Code of Federal Regulations is available on GPO Access at: http://www.access.gpo.gov/nara/index.html.

Applicable Program Regulations: 34 CFR Parts 385, 386 and 389.

Program Authority: 29 U.S.C. 774.

(Catalog of Federal Domestic Assistance Number: 84.129 and 84.264, the Rehabilitation Long-Term Training, and Rehabilitation Continuing Education Program.)

Dated: August 25, 2000.
Judith E. Heumann,
Assistant Secretary for Special Education and Rehabilitative Services.

[FR Doc. 00-22244 Filed 8-30-00; 8:45 am]

BILLING CODE 4000-01-P